NATIONAL AERONAUTICS AND SPACE ADMINISTRATION

[Notice (10-117)]

NASA Advisory Council; Technology and Innovation Committee; Meeting

AGENCY: National Aeronautics and Space Administration.

ACTION: Notice of meeting.

SUMMARY: In accordance with the Federal Advisory Committee Act, Public Law 92-463, as amended, the National Aeronautics and Space Administration announces a meeting of the Technology and Innovation Committee of the NASA Advisory Council. The meeting will be held for the purpose of reviewing the Space Technology Program planning and review innovation activities at NASA's Langley Research Center (LaRC).

DATES: Thursday, October 21, 2010, 9:30 a.m. to 3 p.m., Local Time.

ADDRESSES: NASA Langley Research Center, Building 1212, Room 208, Hampton, VA 23681. (Note that visitors will need to go to the LaRC Badge & Pass Office, which is to the right of the main gate, to be granted access.)

FOR FURTHER INFORMATION CONTACT: Mr. Mike Green, Office of the Chief Technologist, NASA Headquarters, Washington, DC 20546, (202) 358-4710, fax (202) 358-4078, or g.m.green@nasa.gov.

SUPPLEMENTARY INFORMATION: The meeting will be open to the public up to the capacity of the room. The agenda for the meeting includes the following topics:

• Office of the Chief Technologist Update

• Game Changing Technology program briefing

• Overview of Langley Research Center

• Update on Innovative Learning Experiences at LaRC

It is imperative that the meeting be held on these dates to accommodate the scheduling priorities of the key participants. Attendees will be requested to comply with NASA security requirements, including the presentation of a valid picture ID, before receiving an access badge. Foreign nationals attending this meeting will be required to provide a copy of their passport, visa, or green card in addition to providing the following information no less than 10 working days prior to the meeting: Full name; gender; date/place of birth; citizenship; visa/green card information (number, type, expiration date); passport information (number, country, expiration date); employer/affiliation information (name of institution, address, country, phone); and title/position of attendee. To expedite admittance, attendees with U.S. citizenship can provide identifying information 3 working days in advance by contacting Cheryl Cleghorn via e-mail at cheryl.w.cleghorn@nasa.gov or by telephone at 757-864-2497.

Dated: September 30, 2010.
P. Diane Rausch,
Advisory Committee Management Officer, National Aeronautics and Space Administration.

[FR Doc. 2010-25020 Filed 9-30-10; 4:15 pm]

BILLING CODE P